DEPARTMENT OF DEFENSE

Office of the Secretary

Board of Visitors for the National Defense Intelligence College; Charter Renewal

AGENCY: Department of Defense (DoD).

ACTION: Federal advisory committee charter.

SUMMARY: Under the provisions of the Federal Advisory Committee Act of 1972, (5 U.S.C. Appendix, as amended), the Sunshine in the Government Act of 1976 (5 U.S.C. 552b, as amended), and 41 CFR 102-3.65, the Department of Defense gives notice that it intends to renew the charter for the Board of Visitors for the National Defense Intelligence College (hereafter referred to as the Board).

FOR FURTHER INFORMATION CONTACT: Jim Freeman, DoD Committee Management Office, 703-601-6128.

SUPPLEMENTARY INFORMATION: The Board, pursuant to 41 CFR 102-3.50(d), is a discretionary Federal advisory committee established to provide the Secretary of Defense through the Under Secretary of Defense for Intelligence and the Director, Defense Intelligence Agency, independent advice on matters related to mission, policy, accreditation, faculty, student facilities, curricula, educational methods, research, and administration of the National Defense Intelligence College.

The Director, Defense Intelligence Agency may act upon the Board's advice and recommendations.

The Board shall be comprised of no more than 12 members, who are distinguished members of the national intelligence community, defense, and academia and shall be appointed on an annual basis by the Secretary of Defense. The Director, Defense Intelligence Agency shall select the Board's Chairperson.

Board members appointed by the Secretary of Defense, who are not full-time or permanent part-time employees, shall be appointed as experts and consultants under the authority of 5 U.S.C. 3109, and serve as Special Government Employees. In addition, they shall serve without compensation except for travel and per diem for official Board-related travel.

The Board shall meet at the call of the Board's Designated Federal Officer, in consultation with the Chairperson and the Director, Defense Intelligence Agency. The estimated number of Board meetings is two per year.

The Designated Federal Officer, pursuant to DoD policy, shall be a full-time or permanent part-time DoD employee, and shall be appointed in accordance with DoD policies and procedures. In addition, the Designated Federal Officer is required to attend all Board and subcommittee meetings. In the absence of the Designated Federal Officer the Alternate Designated Federal Officer shall attend the meeting.

With DoD approval, the Board is authorized to establish subcommittees, as necessary and consistent with its mission. These subcommittees or working groups shall operate under the provisions of the Federal Advisory Committee Act of 1972 (5 U.S.C., Appendix, as amended), the Government in the Act of 1976 (5 U.S.C. 552b, as amended), and other appropriate Federal regulations.

Such subcommittees or workgroups shall not work independently of the chartered Board, and shall report all their recommendations and advice to the Board of Visitors for the National Defense Intelligence College for full deliberation and discussion. Subcommittees or workgroups have no authority to make decisions on behalf of the chartered Board nor can they report directly to the Department of Defense or any Federal officers or employees who are not Board members.

Pursuant to 41 CFR 102-3.105(j) and 102-3.140, the public or interested organizations may submit written statements to the Board of Visitors for the National Defense Intelligence College membership about the Board's mission and functions. Written statements may be submitted at any time or in response to the stated agenda of planned meeting of the Board of Visitors for the National Defense Intelligence College.

All written statements shall be submitted to the Designated Federal Officer for the Board of Visitors for the National Defense Intelligence College, and this individual will ensure that the written statements are provided to the membership for their consideration. Contact information for the Designated Federal Officer can be obtained from the GSA's FACA Database— https://www.fido.gov/facadatabase/public.asp.

The Designated Federal Officer, pursuant to 41 CFR 102-3.150, will announce planned meetings of the Board of Visitors for the National Defense Intelligence College. The Designated Federal Officer, at that time, may provide additional guidance on the submission of written statements that are in response to the stated agenda for the planned meeting in question.

Dated: December 9, 2009.
Mitchell S. Bryman,
Alternate OSD Federal Register Liaison Officer, Department of Defense.

[FR Doc. E9-29713 Filed 12-14-09; 8:45 am]

BILLING CODE 5001-06-P